SMALL BUSINESS ADMINISTRATION

[Disaster Declaration #17642 and #17643; ALASKA Disaster Number AK-00055]

Presidential Declaration of a Major Disaster for the State of Alaska

AGENCY: Small Business Administration.

ACTION: Notice.

SUMMARY: This is a Notice of the Presidential declaration of a major disaster for the State of Alaska (FEMA-4672-DR), dated 09/23/2022.

Incident: Severe Storm, Flooding, and Landslides.

Incident Period: 09/15/2022 through 09/20/2022.

DATES: Issued on 09/23/2022.

Physical Loan Application Deadline Date: 11/25/2022.

Economic Injury (EIDL) Loan Application Deadline Date: 06/23/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 09/23/2022, applications for disaster loans may be filed at the address listed above or other locally announced locations.

The following areas have been determined to be adversely affected by the disaster:

Primary Areas (Physical Damage and Economic Injury Loans): Bering Strait REAA, Kashunamiut (Chevak) REAA, Lower Kuskokwim REAA, Lower Yukon REAA.

Contiguous Areas (Economic Injury Loans Only):

Alaska: Iditarod Area REAA, Kuspuk REAA, Northwest Arctic Borough, Southwest Region REAA, Yukon-Koyukuk REAA, Yupiit REAA.

The Interest Rates are:

| Percent
For Physical Damage:
Homeowners with Credit Available Elsewhere | 4.375
Homeowners without Credit Available Elsewhere | 2.188
Businesses with Credit Available Elsewhere | 6.080
Businesses without Credit Available Elsewhere | 3.040
Non-Profit Organizations with Credit Available Elsewhere | 1.875
Non-Profit Organizations without Credit Available Elsewhere | 1.875
For Economic Injury:
Businesses & Small Agricultural Cooperatives without Credit Available Elsewhere | 3.040
Non-Profit Organizations without Credit Available Elsewhere | 1.875

The number assigned to this disaster for physical damage is 17642 B and for economic injury is 17643 0.

(Catalog of Federal Domestic Assistance Number 59008)

Rafaela Monchek,
Acting Associate Administrator for Disaster Assistance.

[FR Doc. 2022-21488 Filed 10-3-22; 8:45 am]

BILLING CODE 8026-09-P